DEPARTMENT OF TRANSPORTATION

Federal Motor Carrier Safety Administration

[Docket No. FMCSA-2006-26367]

Motor Carrier Safety Advisory Committee (MCSAC): Membership Solicitation

AGENCY: Federal Motor Carrier Safety Administration (FMCSA), DOT.

ACTION: Request for Applications and Nominations to the Motor Carrier Safety Advisory Committee (MCSAC).

SUMMARY: FMCSA solicits applications and nominations for interested persons to serve on the MCSAC. The MCSAC is composed of FMCSA stakeholders from the safety enforcement, industry, labor, and safety sectors and is charged with providing advice and recommendations to the FMCSA Administrator on Federal motor carrier safety programs. As part of this solicitation, current members with terms expiring in 2012 will be able to indicate their interest in being reappointed for another term.

DATES: Applications/nominations for the MCSAC and letters of interest in reappointment must be received electronically on or before August 10, 2012.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov. Additionally, should you wish to review tasks that the MCSAC has considered and learn more about the committee and its membership, please go to http://mcsac.fmcsa.dot.gov.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The MCSAC provides advice and recommendations to the FMCSA Administrator on motor carrier safety programs and regulations, and operates in accordance with the Federal Advisory Committee Act (FACA, 5 U.S.C. App 2).

The committee may be comprised of not more than 20 members appointed by the Administrator for up to 2-year terms. Members are selected from among individuals who are not employees of FMCSA and who are specially qualified to serve on the Committee based on their education, training, or experience. Currently, the members include representatives of the motor carrier industry, safety advocates, labor, and safety enforcement communities. Representatives of a single enumerated interest group may not constitute a majority of the committee members. Committee members must not be officers or employees of the Federal Government and serve without pay. The Administrator may allow a member, when attending meetings of the committee or a subcommittee, reimbursement of expenses authorized under Section 5703 of Title 5, United States Code and the Federal Travel Regulation System (41 CFR Subtitle F), relating to per diem, travel, and transportation.

The President's Memorandum of June 18, 2010, concerning lobbyists on Agency boards and commissions (75 FR 35995, June 23, 2010) directed the heads of Executive departments and agencies “not to make any new appointments or reappointments of federally registered lobbyists to advisory committees and other boards and commissions.” Pursuant to the President's directive, FMCSA will not consider for appointment to the MCSAC any individual who is subject to the registration and reporting requirements of the Lobbying Disclosure Act (2 U.S.C. 1605).

The Designated Federal Official anticipates calling MCSAC meetings approximately three times each year. Meetings are open to the general public, except as provided under the Federal Advisory Committee Act (FACA) (5 U.S.C. App. 2). Notice of each meeting is published in the Federal Register at least 15 calendar days prior to the date of the meeting.

II. Request for Nominations

The FMCSA seeks applications and nominations for membership to the MCSAC from among its stakeholder groups for representatives with specialized experience, education, or training in commercial motor vehicle safety issues. The Agency is required under FACA to appoint members of diverse views and interests to ensure the committee is balanced with appropriate consideration of background. All Committee members must be able to attend at least three meetings each year in person or by teleconference. Interested persons should have a commitment to transportation safety, and a record of collaboration and professional experience in commercial motor vehicle safety issues. As part of this solicitation, current members with expiring terms will be able to indicate their interest in being reappointed for another term.

On-line applications will be accepted for positions on the MCSAC. Applications may be obtained from the MCSAC Web site at http://mcsac.fmcsa.dot.gov/, completed on-line and emailed to Shannon L. Watson, Senior Advisor to the Associate Administrator for Policy, FMCSA, at mcsac@dot.gov. The Web site contains additional information on the MCSAC, including reports, meeting minutes, and membership information.

Applications/nominations and letters of interest in reappointment must be received on or before August 10, 2012.

Issued on: June 29, 2012.
Anne S. Ferro,
Administrator.

[FR Doc. 2012-16894 Filed 7-10-12; 8:45 am]

BILLING CODE P